DEPARTMENT OF HOUSING AND URBAN DEVELOPMENT

[Docket No. FR-4837-D-56]

Redelegation of Authority Regarding Local Public Housing Hub Directors/Public Housing Program Center Coordinators

AGENCY: Office of the Assistant Secretary for Public and Indian Housing, HUD.

ACTION: Notice of redelegation of authority.

SUMMARY: In this notice, the Assistant Secretary for Public and Indian Housing redelegates to the local Public Housing Hub Directors/Public Housing Program Center Coordinators the authority to review and approve designated housing renewals pursuant to section 7 of the United States Housing Act of 1937.

HUD has not delegated authority for approval of new designated housing plans.

EFFECTIVE DATE: December 23, 2004.

FOR FURTHER INFORMATION CONTACT: Pat Arnaudo, Office of Public Housing Occupancy and Management, Department of Housing and Urban Development, Room 4222, 451 Seventh Street, SW., Washington, DC 20410-5000; telephone (202) 708-0744 (this is not a toll-free number). Hearing or speech impaired individuals may access this number via TTY by calling the toll-free Federal Information Relay Service at 1-800-877-8339.

For General Information Pertaining to Designated Housing Renewals Contact: Your Local Public Housing Hub Director/Public Housing Program Center Coordinator. A list of HUD's Local Public Housing Hub Director/Public Housing Program Center Coordinator can be found on the HUD Web site at http://www.hud.gov/offices/pih/about/field_office.cfm.

HUD has not delegated authority for approval of new designated housing plans. Therefore, the Public Housing Agency (PHA) must continue to send the plan to HUD in Washington, DC, for review and approval or disapproval. The address is HUD, Office of Public and Indian Housing, Public Housing Management and Occupancy Division, Room 4222, 451 Seventh Street, SW. Washington, DC 20410-5000.

SUPPLEMENTARY INFORMATION: A PHA must submit a designated plan for HUD's approval in order to designate a project for elderly families only or for persons with disabilities only in accordance with Section 7 of the U.S. Housing Act of 1937. All designations are in effect for five years from the date of HUD's notification of approval of the plan. Renewal of plans beyond the five years will be granted in two-year increments.

On September 16, 2003 (68 FR 54240), the Secretary delegated to the Assistant Secretary for Public and Indian Housing (PIH) authority to administer the Department's programs related to public housing.

Section A. Authority Redelegated

The Assistant Secretary for PIH redelegates to the local Public Housing Hub Directors/Public Housing Program Center Coordinators the authority to conduct all activity related to the renewal of Designated Housing Plans.

Section B. Authority Excepted

The authority redelegated under Section A does not include the authority to waive regulations.

Section C. Authority To Further Redelegate

The authority in Section A may not be further redelegated.

Authority: Section 7(d) of the Department of Housing and Urban Development Act (42 U.S.C. 3535(d)).

Dated: December 23, 2004.
Michael Liu,
Assistant Secretary for Public and Indian Housing.

[FR Doc. 05-315 Filed 1-6-05; 8:45 am]

BILLING CODE 4210-33-P